DEPARTMENT OF HEALTH AND HUMAN SERVICES

Centers for Medicare & Medicaid Services

[Document Identifier CMS-29 and CMS-209]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Request for Certification as a Rural Health Clinic Form and Supporting Regulations in 42 CFR 491.1-491.11; Use: The Form CMS-29, Request for Certification as a Supplier of Rural Health Clinic (RHC) Services under the Medicare/Medicaid Program, is utilized as an application to be completed by suppliers of RHC services requesting participation in the Medicare program. This form initiates the process of obtaining a decision as to whether the conditions for certification are met as a supplier of RHC services. It also promotes data reduction or introduction to and retrieval from the Automated Survey Process Environment (ASPEN) and related survey and certification databases by the CMS Regional Offices. Should any question arise regarding the structure of the organization, this information is readily available. With this renewal request, the title of the Form CMS-29 is being revised to better describe the purpose of the data being collected. Both new and existing clinics must provide and attest to the accuracy of specific clinic data as a part of the RHC certification process. Therefore, the revised title is “Form CMS-29/Verification of Clinic Data—Rural Health Clinic Program.” The Form CMS-29 is also being revised to remove Section V, Federal Support. The information captured under Section V is not a deciding factor as to whether or not a clinic meets RHC certification requirements. Therefore, it is unnecessary to require facilities to complete this section as a part of the certification process; Form Number: CMS-29 (OCN 0938-0074); Frequency: Occasionally (initially and then every six years); Affected Public: Private Sector (Business or other for-profit and Not-for-profit institutions); Number of Respondents: 3,981; Total Annual Responses: 830; Total Annual Hours: 138. (For policy questions regarding this collection contact Shonté Carter at (410) 786-3532. For all other issues call (410) 786-1326.)

2. Type of Information Collection Request: Extension without change of a currently approved collection; Title of Information Collection: Laboratory Personnel Report (CLIA) and Supporting Regulations in 42 CFR 493.1357, 493.1363, 493.1405, 493.1406, 493.1411, 493.1417, 493.1423, 493.1443, 493.1449, 493.1455, 493.1461, 493.1462, 493.1469, 493.1483, 493.1489 and 493.1491; Use: The information collected on this survey form is used in the administrative pursuit of the Congressionally mandated program with regard to regulation of laboratories participating in CLIA. The surveyor will provide the laboratory with the CMS-209 form. While the surveyor performs other aspects of the survey, the laboratory will complete the CMS-209 by recording the personnel data needed to support their compliance with the personnel requirements of CLIA. The surveyor will then use this information in choosing a sample of personnel to verify compliance with the personnel requirements. Information on personnel qualifications of all technical personnel is needed to ensure the sample is representative of the entire laboratory; Form Number: CMS-209 (OCN 0938-0151); Frequency: Biennially; Affected Public: Private Sector; State, Local, or Tribal Governments; and Federal Government; Number of Respondents: 20,486; Total Annual Responses: 10,243; Total Annual Hours: 5,121.50. (For policy questions regarding this collection contact Kathleen Todd at (410) 786-3385. For all other issues call (410) 786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by January 30, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

Dated: November 21, 2011.
Martique Jones,
Director, Regulations Development Group, Division B, Office of Strategic Operations and Regulatory Affairs.

[FR Doc. 2011-30729 Filed 11-28-11; 8:45 am]

BILLING CODE 4120-01-P